DEPARTMENT OF THE INTERIOR

[OR-027-1020-PH-029H; HAG 06-0068]

Bureau of Land Management

AGENCY: Bureau of Land Management, Department of the Interior, Burns District.

ACTION: Meeting notice for the Southeast Oregon Resource Advisory Council.

SUMMARY: The Southeast Oregon Resource Advisory Council (SEORAC) will hold a meeting Monday, February 27 from 8 a.m. to 5 p.m. and Tuesday, February 28, from 8 a.m. to 3:30 p.m., in the conference room at the U.S. Bureau of Land Management (BLM) Burns District Office, 28910 Hwy 20 West, Hines, Oregon.

Agenda items for the 2-day meeting include updates from the Chair and Designated Federal Official; remarks from Oregon/Washington BLM Associate State Director Jim Kenna; updates on the Energy Corridor Process Programmatic Environmental Impact Statement (EIS) and the Vegetation Management Programmatic EIS; a presentation on the High Desert Partnership; discussion of SEORAC priorities (1) off-highway vehicle use and management, and (2) sage-grouse; an opportunity for SEORAC subgroups to meet; subgroup and liaison reports; member round-table; a presentation on The Pay-off of Collaboration; and agenda development for the May meeting. Other matters that may reasonably come before the SEORAC may also be addressed anytime Monday or Tuesday.

The public is welcome to attend all portions of the meeting and may contribute during the public comment sessions at 11 a.m. each day. Those who verbally address the SEORAC during public comment are asked to also provide a written statement of their comments or presentation. Unless otherwise approved by the SEORAC Chair, the public comment period will last no longer than 30 minutes, and each speaker may address the SEORAC for a maximum of 5 minutes.

If you have information you would like distributed to SEORAC members, please send it to Sally Nelson at the Burns District Office, 28910 Hwy 20 West, Hines, Oregon 97738, prior to the start of the meeting. If you send information or general correspondence to anyone at the Burns District Office and would like a copy given to the SEORAC, please write “COPY TO SEORAC” on the envelope and enclosed document(s).

FOR FURTHER INFORMATION CONTACT: Tara Wilson, Southeast Oregon Resource Advisory Council Facilitator, Burns District Office, 28910 Hwy 20 West, Hines, Oregon 97738, (541) 573-4519, or Tara_Wilson@blm.gov.

Dated: February 1, 2006.
Dana R. Shuford,
District Manager.

[FR Doc. E6-1647 Filed 2-7-06; 8:45 am]

BILLING CODE 4310-33-P